SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collections should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974.

(SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. RS/DI Quality Review Case Analysis: Sampled Number Holder, Auxiliaries/Survivors, Parents: Stewardship Annual Earnings Test Workbook—0960-0189. SSA uses the information collected by forms SSA-2930, SSA-2931, and SSA-2932 to establish a national payment accuracy rate for all cases in payment status; to measure the accuracy rate for newly adjudicated claims for beneficiaries receiving old-age, survivors, or disability insurance; and to serve as a source of information regarding problem areas in the RSI/DI programs. Form SSA-4569 is used to evaluate and determine the effectiveness of the annual earnings test and to use the results to develop ongoing improvements in the process. The respondents are beneficiaries and representative payees for beneficiaries receiving old age, survivors, or disability insurance.

Type of Request: Extension of an OMB-approved information collection.

| Number of Respondents | Frequency of response | Average burden per response (minutes) | Estimated annual burden (hours)
SSA-2930 | 3,000 | 1 | 30 | 1,500
SSA-2931 | 1,500 | 1 | 30 | 750
SSA-2932 | 650 | 1 | 20 | 217
SSA-4659 | 325 | 1 | 10 | 54
Totals | 5,475 |  |  | 2,521

Estimated Annual Burden: 2,521 hours.

2. Request for Hearing by Administrative Law Judge—20 CFR 404.933 and 416.1433, 42 CFR 405.722—0960-0269. The information collected by form HA-501 is used by SSA to process a request for a hearing on an unfavorable determination of entitlement or eligibility to benefits administered by SSA. The respondents are individuals whose claims for benefits are denied and who request a hearing to appeal the denial.

Type of Request: Extension of an OMB-approved information collection.

Number of Respondents: 667,236.

Frequency of Response: 1.

Average Burden Per Response: 10 minutes.

Estimated Annual Burden: 111,206 hours.

3. Acknowledgement of Receipt (Notice of Hearing)—20 CFR 404.938 and 416.1438—0960-0671. The information collected by form HA-504 is used by SSA to process requests for hearings about unfavorable determinations of entitlement or eligibility to disability payments. Specifically, this form is used to acknowledge receipt of the notice of hearing issued by an Administrative Law Judge. The respondents are applicants for SSA disability payments who want to have a hearing to appeal an unfavorable entitlement or eligibility decision.

Type of Request: Extension of OMB-approved information collection.

Number of Respondents: 670,000.

Frequency of Response: 1.

Average Burden Per Response: 1 minute.

Estimated Annual Burden: 11,167 hours.

4. Medical Report (Individual with Childhood Impairment)—20 CFR 404.1512, .1514-.1515, and 416.912-.915—0960-0102. The information collected on Form SSA-3827 is needed to determine the claimant's physical and mental status prior to making a childhood disability determination. The respondents are medical sources.

Type of Request: Extension of an OMB-approved information collection.

Number of Respondents: 12,000.

Frequency of Response: 1.

Average Burden Per Response: 30 minutes.

Estimated Annual Burden: 6,000 hours.

5. Disability Hearing Officer's Report of Disability Hearing (DC)—20 CFR 416.1407—0906-0507. The information collected on form SSA-1204-BK is used by the Disability Hearing Officer (DHO) to conduct and document disability hearings, and to provide a structured format that covers all conceivable issues relating to SSI claims for disabled children. The completed SSA-1204-BK will aid the DHO in preparing the disability decision and will provide a record of what transpired in the hearing. The respondents are DHOs in the State Disability Determination Services.

Type of Request: Extension of an OMB-approved information collection.

Number of Respondents: 35,000.

Frequency of Response: 1.

Average Burden Per Response: 60 minutes.

Estimated Annual Burden: 35,000 hours.

6. Employer Report of Special Wage Payments—20 CFR 404.428-.429—0960-0565. SSA gathers the information on Form SSA-131 to prevent earnings-related overpayments to employees, and to avoid erroneous withholding of benefits. The respondents are employers who provide special wage payment verification.

Type of Request: Extension of an OMB-approved information collection.

Number of Respondents: 30,000.

Frequency of Response: 1.

Average Burden Per Response: 20 minutes.

Estimated Annual Burden: 10,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Payment of Certain Travel Expenses—20 CFR 404.999(d) and 416.1499—0906-0434. This regulation mandates travel expense reimbursement by a State or Federal agency for claimants traveling to a consultative examination, or for claimants, their representatives, and non-subpoenaed witnesses who must travel over 75 miles to appear at a disability hearing. State and Federal personnel review the listing and the receipts to verify the amount of reimbursement. The respondents are claimants for Title II/XVI benefits and/or their representatives and non-subpoenaed witnesses.

Type of Request: Extension of an OMB-approved information collection.

Number of Respondents: 50,000.

Frequency of Response: 1.

Average Burden Per Response: 10 minutes.

Estimated Annual Burden: 8,333 hours.

2. Plan for Achieving Self-Support—20 CFR 416.1180-1182 and 416.1225—0960-0559. The information collected by form SSA-545 is used by SSA when a Supplemental Security Income (SSI) applicant/recipient desires to use available income and resources to obtain education and/or training in order to become self-supporting. The information is used to evaluate the recipient's plan for achieving self-support to determine whether the plan may be approved under the provisions of the SSI program. The respondents are SSI applicants/recipients who are blind or disabled.

Type of Request: Extension of an OMB-approved information collection.

Number of Respondents: 7,000.

Frequency of Response: 1.

Average Burden Per Response: 2 hours.

Estimated Annual Burden: 14,000 hours.

3. Request for Social Security Earnings Information—20 CFR 404.810 and 401.100—0960-0525. The Social Security Act provides that a wage earner, or someone authorized by a wage earner, may request Social Security earnings information from SSA using form SSA-7050. SSA uses the information collected on the form to verify that the requestor is authorized to access the earnings record and to produce the earnings statement. The respondents are wage earners and organizations and legal representatives authorized by the wage earner.

Type of Request: Extension of an OMB-approved information collection.

Number of Respondents: 87,000.

Frequency of Response: 1.

Average Burden Per Response: 11 minutes.

Estimated Annual Burden: 15,950 hours.

Dated: September 7, 2004.
Elizabeth A. Davidson,
Reports Clearance Officer, Social Security Administration.

[FR Doc. 04-20589 Filed 9-10-04; 8:45 am]

BILLING CODE 4191-02-P